DEPARTMENT OF ENERGY

Federal Energy Regulatory Commission

[Docket No. RP03-561-000]

Questar Southern Trails Pipeline Company; Notice of Tariff Filing

August 12, 2003.

Take notice that on August 8, 2003, Questar Southern Trails Pipeline Company (Southern Trails) tendered for filing as part of its FERC Gas Tariff, Original Volume No. 1, the following tariff sheets, to be effective September 8, 2003:

Second Revised Sheet No. 1.

Second Revised Sheet No. 30.

Second Revised Sheet No. 112.

First Revised Sheet No. 113.

Sheet Nos. 114 through 118.

Southern Trails states that it is proposing to revise its tariff to describe its ability to provide its customers with specific types of non-discriminatory discounts that will not be considered as material deviations from Southern Trails' forms of service agreements. Southern Trails states that under its proposed tariff language, eligible discounts will result in rates between Southern Trails' maximum and minimum rates for service under rate schedules of its tariff. Southern Trails asserts that approval of these discount provisions will enhance Southern Trails' flexibility to provide transportation discounts in a variety of situations that the Commission has previously recognized as appropriate, and reduce the need and administrative burden of filing discounted agreements with the Commission as non-conforming service agreements.

Southern Trails states that a copy of this filing has been served upon its customers and the Public Service Commissions of Utah, New Mexico, Arizona, and California.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 20, 2003.

Magalie R. Salas,
Secretary.

[FR Doc. 03-21102 Filed 8-15-03; 8:45 am]

BILLING CODE 6717-01-P